CONSUMER PRODUCT SAFETY COMMISSION

Sunshine Act Meeting

AGENCY: U.S. Consumer Product Safety Commission, Washington, DC 20207.

TIME AND DATE: Thursday, May 25, 2000, 2 p.m.

LOCATION: Room 410, East West Towers, 4330 East West Highway, Bethesda, MD.

STATUS: Part open to the public; part closed.

MATTERS TO BE CONSIDERED:

Open to the Public

1. CPSC Vice Chairman.

The Commission will elect a Vice Chairman.

Closed to the Public

2. Compliance Status Report.

The staff will brief the Commission on the status of various compliance matters.

For a recorded message containing the latest agenda information, call (301) 504-0709.

CONTACT PERSON FOR ADDITIONAL INFORMATION: Sadye E. Dunn, Office of the Secretary, 4330 East West Highway, Bethesda, MD 20207; (301) 504-0800.

Dated: May 15, 2000.
Sadye E. Dunn,
Secretary.

[FR Doc. 00-12551 Filed 5-15-00; 2:52 pm]

BILLING CODE 6355-01-M